DEPARTMENT OF DEFENSE

GENERAL SERVICES ADMINISTRATION

NATIONAL AERONAUTICS AND SPACE ADMINISTRATION

48 CFR Chapter I and Part 52

[FAC 2001-25 Corrections]

Federal Acquisition Regulation; Corrections

AGENCY: Department of Defense (DOD), General Services Administration (GSA), and National Aeronautics and Space Administration (NASA).

ACTION: Corrections.

SUMMARY: The Civilian Agency Acquisition Council and the Defense Acquisition Regulations Council are issuing corrections to the Introduction and Technical Amendments (Item V) documents in FAC 2001-25, published in the Federal Register at 69 FR 59698 and 59704, October 5, 2004.

DATES: Effective October 14, 2004.

FOR FURTHER INFORMATION CONTACT: Ms. Laurie Duarte at (202) 501-4755, General Services Administration, FAR Secretariat, Washington, DC 20405.

Corrections

In the final and interim rule documents appearing in the issue of October 5, 2004:

1. In the table on page 59698, third column, third entry, “2003-035” should read “2003-025”.

52.215-15 [Corrected]

2. In 52.215-15:

A. Revise the date of the clause to read “(Oct 2004)”; and

B. In paragraph (b)(2) of the clause, remove “48 CFR 904.413-50(c)(12)(vi)” and add “48 CFR 9904.413-50(c)(12)(vi)” in its place.

Dated: October 7, 2004.
Laurie Duarte,
FAR Secretariat.

[FR Doc. 04-22964 Filed 10-13-04; 8:45 am]

BILLING CODE 6820-EP-M